DEPARTMENT OF COMMERCE

National Oceanic and Atmospheric Administration

[RTID 0648-XB408]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ). Due to ongoing public safety considerations related to COVID-19, this meeting will be conducted entirely by webinar.

DATES: The webinar meeting will be held on Tuesday, Wednesday, and Thursday, September 28, 29, and 30, 2021, beginning at 9 a.m. each day.

ADDRESSES: All meeting participants and interested parties can register to join the webinar at https://register.gotowebinar.com/register/6852048029928028172.

Council address: New England Fishery Management Council, 50 Water Street, Mill 2, Newburyport, MA 01950; telephone (978) 465-0492; www.nefmc.org.

FOR FURTHER INFORMATION CONTACT: Thomas A. Nies, Executive Director, New England Fishery Management Council; telephone: (978) 465-0492, ext. 113.

SUPPLEMENTARY INFORMATION:

Agenda

Tuesday, September 28, 2021

After introductions and brief announcements, NMFS's Regional Administrator for the Greater Atlantic Regional Fisheries Office (GARFO) will swear in new and reappointed Council members. The Council then will conduct its 2021-22 election of officers. Reports on recent activities will be next. The Council will hear from its Chairman and Executive Director, GARFO's Regional Administrator, the Northeast Fisheries Science Center (NEFSC) Director, the NOAA Office of General Counsel, the Mid-Atlantic Fishery Management Council liaison, staff from the Atlantic States Marine Fisheries Commission (ASMFC), and representatives from the U.S. Coast Guard, NOAA's Office of Law Enforcement, the Stellwagen Bank National Marine Sanctuary, and NMFS's Highly Migratory Species Advisory Panel. Next, the Council will receive an overview of H.R 4690, “Sustaining America's Fisheries for the Future Act of 2021,” which is a bill to reauthorize the Magnuson-Stevens Fishery Conservation and Management Act. The Council will discuss the bill and approve comments.

Following the lunch break, the Council will receive a presentation from GARFO on two actions under the Atlantic Large Whale Take Reduction Plan. These will cover: (1) The Phase 1 final rule for Northeast lobster and Jonah crab trap/pot fisheries; and (2) Phase 2 scoping on potential measures for U.S. gillnet and other trap/pot fisheries to reduce entanglements of North Atlantic right whales, humpback whales, and fin whales with commercial fishing gear. The Council will discuss Phase 2 and provide input on scoping comments. Next, the Council will discuss and take final action on Framework Adjustment 9 to the Atlantic Herring Fishery Management Plan (FMP). This framework includes a rebuilding plan to address the overfished status of Atlantic herring, and it contains adjustments to herring accountability measures. As the final order of business for the day, the Council will receive an overview of NMFS's National Standard 1 Draft Technical Guidance Memo on managing with annual catch limits (ACLs) for data-limited stocks in federal fishery management plans. Following discussion, the Council will approve comments on the draft memo.

Wednesday, September 29, 2021

The Council will start off the day with a report on the 43rd annual meeting of the Northwest Atlantic Fisheries Organization (NAFO). Then, the Council will receive a presentation from the Scientific and Statistical Committee's (SSC) Social Science Subpanel on its review of socioeconomic information in Groundfish Framework Adjustment 59 and Scallop Framework Adjustment 32. The Council will discuss the results of this review. The Scallop Committee Report will be next. The Council will receive a summary of 2021 scallop survey results and a progress report on Framework Adjustment 34 to the Atlantic Sea Scallop FMP, which includes 2022 fishery specifications, 2023 default specifications, and measures that will be made available soon under Amendment 21 to the FMP. Additionally, the Council will receive: (1) A progress report on work being done to evaluate the scallop fishery's rotational area management program; and (2) an update on the Scallop Survey Working Group's activities. The Council then will transition into groundfish issues, beginning with a report from the Transboundary Resources Assessment Committee (TRAC) on the TRAC's 2021 assessment results and updates for shared U.S./Canada resources, which include Eastern Georges Bank cod, Eastern Georges Bank haddock, and Georges Bank yellowtail flounder. The Council then will hear the SSC's recommendations on overfishing limits (OFLs) and acceptable biological catches (ABCs) for Georges Bank yellowtail flounder for fishing years 2022 and 2023. This will be followed by the Transboundary Management Guidance Committee's recommendations for 2022 total allowable catches (TACs) for shared U.S./Canada resources on Georges Bank. The Council will review and approve the recommendations.

Following the lunch break, the Council will receive the Groundfish Committee Report, which will cover two items. The first will be a progress report on Framework Adjustment 63 to the Northeast Multispecies (Groundfish) FMP, which includes (1) 2022 TACs for U.S./Canada shared resources on Georges Bank; (2) 2022-23 specifications for Georges Bank yellowtail flounder; (3) 2022-24 specifications for Georges Bank cod and Gulf of Maine cod; (4) possible adjustment of 2022 specifications for Georges Bank and Gulf of Maine haddock; (5) adjustment of 2022 specifications for white hake based on a rebuilding plan; (6) additional measures to promote stock rebuilding; and (7) alternatives for setting groundfish default specifications. The second groundfish item pertains to the recent series of Atlantic Cod Stock Structure Workshops. The Council will consider measures that can be adopted regardless of outcomes from the next stock assessments for Atlantic cod. Then, the Council will receive the Skate Committee Report, starting with the SSC's overfishing limit and acceptable biological catch recommendations for the 2022-23 fishing years. The Council will take final action on 2022-23 skate specifications. Following this discussion, the Council will receive an update on recent meetings of the Northeast Trawl Advisory Panel (NTAP). The Council will review and approve a revised NTAP charter. After that, the Council will adjourn for the day.

Thursday, September 30, 2021

The Council will begin the third day of its meeting with a report from its Ecosystem-Based Fishery Management (EBFM) Committee, which will include updates on: (1) EBFM public information workshops; (2) National Standard 1 issues related to potentially managing catches by stock complex rather than as individual stocks; and (3) a potential committee recommendation for an example EBFM Management Strategy Evaluation exercise. The Habitat Committee Report will follow. The Council will receive updates on: (1) Recent Council comments to federal agencies on offshore wind projects and other issues; (2) upcoming comment opportunities; and (3) other habitat-related work. The Monkfish Committee then will report on its discussion of analyses of discard estimation methods and potential next steps resulting from this work. Next, the Northeast Fisheries Science Center will provide a presentation on the peer review of the June 2021 Management Track Stock Assessments for black sea bass, scup, Atlantic mackerel, and golden tilefish. This will be followed by the Whiting Committee Report, which will include an overview of the committee's discussion on the 2020 Annual Monitoring Report and follow-up on whether management adjustments are needed.

After the lunch break, members of the public will have the opportunity to speak during an open comment period on issues that relate to Council business but are not included on the published agenda for this meeting. The Council asks the public to limit remarks to 3-5 minutes. These comments will be received through the webinar. A guide for how to publicly comment through the webinar is available on the Council website at https://s3.amazonaws.com/nefmc.org/NEFMC-meeting-remote-participation_generic.pdf. Following the public comment period, the Council will begin its initial discussion on 2022 Council Priorities for all fishery management plans and other Council responsibilities. Final action on 2022 priorities will take place during the Council's December 2021 meeting. After this discussion, the Council will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Dated: September 3, 2021.
Tracey L. Thompson,
Acting Deputy Director, Office of Sustainable Fisheries, National Marine Fisheries Service.

[FR Doc. 2021-19485 Filed 9-7-21; 8:45 am]

BILLING CODE 3510-22-P